NUCLEAR REGULATORY COMMISSION

[Docket No. 50-282 and 50-306; NRC-2009-0507]

Northern States Power Company; Prairie Island Nuclear Generating Plant, Units 1 and 2; Notice of Availability of the Draft Supplement 39 to the Generic Environmental Impact Statement for License Renewal of Nuclear Plants, the License Renewal of Prairie Island Nuclear Generating Plants, Units 1 and 2

Notice is hereby given that the U.S. Nuclear Regulatory Commission (NRC or Commission) has published a draft plant-specific supplement to the Generic Environmental Impact Statement for License Renewal of Nuclear Plants (GEIS), NUREG-1437, regarding the renewal of operating licenses DPR-42 and DPR-60 for an additional 20 years of operation for Prairie Island Nuclear Generating Plant, Unit 1 and Unit 2 (PINGP 1 and 2). PINGP 1 and 2 are located in Red Wing, Minnesota, on the west bank of the Mississippi River in Goodhue County. Possible alternatives to the proposed action (license renewal) include no action and reasonable alternative energy sources.

The draft Supplement 39 to the GEIS is publicly available at the NRC Public Document Room (PDR), located at One White Flint North, 11555 Rockville Pike, Rockville, Maryland, 20852, or from the NRC's Agencywide Documents Access and Management System (ADAMS). The ADAMS Public Electronic Reading Room is accessible at http://adamswebsearch.nrc.gov/dologin.htm. The Accession Number for the draft Supplement 39 to the GEIS is ML093170484. Persons who do not have access to ADAMS, or who encounter problems in accessing the documents located in ADAMS, should contact the NRC's PDR reference staff by telephone at 1-800-397-4209, or 301-415-4737, or by e-mail at pdr.resource@nrc.gov. In addition, a copy of the draft supplement to the GEIS is available to local residents near the site at the Red Wing Public Library, 225 East Avenue, Red Wing, Minnesota 55066.

Any interested party may submit comments on the draft supplement to the GEIS for consideration by the NRC staff. To be considered, comments on the draft supplement to the GEIS and the proposed action must be received by January 30, 2010; the NRC staff is able to ensure consideration only for comments received on or before this date. Comments received after the due date will be considered only if it is practical to do so. Written comments on the draft supplement to the GEIS should be sent to: Chief, Rulemaking and Directives Branch, Division of Administrative Services, Office of Administration, Mailstop TWB 5B01, U.S. Nuclear Regulatory Commission, Washington, DC, 20555-0001.

Electronic comments may be submitted to the NRC by e-mail at PrairieIslandEIS@nrc.gov. All comments received by the Commission, including those made by Federal, State, local agencies, Native American Tribes, or other interested persons, will be made available electronically at the Commission's PDR in Rockville, Maryland, and through ADAMS.

The NRC staff will hold public meetings prior to the close of the public comment period to present an overview of the draft plant-specific supplement to the GEIS and to accept public comments on the document. The times, date, and location of the meetings will be announced in a meeting notice at a later date. The meetings will be transcribed and will include: (1) A presentation of the contents of the draft plant-specific supplement to the GEIS, and (2) the opportunity for interested government agencies, organizations, and individuals to provide comments on the draft report. Additionally, the NRC staff will host informal discussions one hour prior to the start of each session at the same location. No comments on the draft supplement to the GEIS will be accepted during the informal discussions. To be considered, comments must be provided either at the transcribed public meeting or in writing. Persons may pre-register to attend or present oral comments at the meeting by contacting Ms. Elaine Keegan, the NRC Environmental Project Manager at 1-800-368-5642, extension 8517, or by e-mail at Elaine.Keegan@nrc.gov, no later than Friday, December 4, 2009. Members of the public may also register to provide oral comments within 15 minutes of the start of each session. Individual, oral comments may be limited by the time available, depending on the number of persons who register. If special equipment or accommodations are needed to attend or present information at the public meeting, the need should be brought to Ms Keegan's attention no later than December 1, 2009, to provide the NRC staff adequate notice to determine whether the request can be accommodated.

FOR FURTHER INFORMATION CONTACT: Ms. Elaine Keegan, Projects Branch 2, Division of License Renewal, Office of Nuclear Reactor Regulation, U.S. Nuclear Regulatory Commission, Mail Stop O-11F1, Washington, DC, 20555-0001. Ms. Keegan may be contacted at the aforementioned telephone number or e-mail address.

Dated at Rockville, Maryland, this 16th day of November 2009.
For the Nuclear Regulatory Commission.
David J. Wrona,
Chief, Projects Branch 2, Division of License Renewal, Office of Nuclear Reactor Regulation.

[FR Doc. E9-27911 Filed 11-19-09; 8:45 am]

BILLING CODE 7590-01-P